DEPARTMENT OF THE INTERIOR

Fish and Wildlife Service

[FWS-R5-ES-2023-N019; FXES11130500000-234-FF05E00000]

Endangered Species; Receipt of Recovery Permit Applications

Correction

In notice document 2023-05961 beginning on page 17601 in the issue of Thursday, March 23, 2023, in the table, the third row should read as follows:

20359D-1 | University of Rhode Island, Providence, RI. Peter Paton | Add: Roseate tern (Sterna dougallii dougallii) | Add: New York | Survey, capture, band, release | Capture | Amend.

[FR Doc. C1-2023-05961 Filed 3-27-23; 8:45 am]

BILLING CODE 0099-10-D